SECURITIES AND EXCHANGE COMMISSION

Sunshine Act Meetings

FEDERAL REGISTER CITATION OF PREVIOUS ANNOUNCEMENT: 89 FR 57457, July 15, 2024.

PREVIOUSLY ANNOUNCED TIME AND DATE OF THE MEETING: Thursday, July 18, 2024 at 2:00 p.m.

CHANGES IN THE MEETING: The Closed Meeting scheduled for Thursday, July 18, 2024, at 2:00 p.m., has been cancelled.

CONTACT PERSON FOR MORE INFORMATION: For further information; please contact Vanessa A. Countryman from the Office of the Secretary at (202) 551-5400.

Authority: 5 U.S.C. 552b.

Dated: July 17, 2024.
Vanessa A. Countryman,
Secretary.

[FR Doc. 2024-16048 Filed 7-17-24; 11:15 am]

BILLING CODE 8011-01-P